DEPARTMENT OF AGRICULTURE

Animal and Plant Health Inspection Service

9 CFR Part 11

[Docket No. APHIS-2011-0009]

RIN 0579-AE19

Horse Protection; Licensing of Designated Qualified Persons and Other Amendments

AGENCY: Animal and Plant Health Inspection Service, USDA.

ACTION: Proposed rule; extension of comment period and clarification.

SUMMARY: We are extending the comment period for our proposed rule to amend the horse protection regulations to provide that the Animal and Plant Health Inspection Service will train and license inspectors to inspect horses at horse shows, exhibitions, sales, and auctions for compliance with the Horse Protection Act. This action will allow interested persons additional time to prepare and submit comments. We are also making a clarification to the proposed regulations pertaining to specific prohibitions concerning exhibitors.

DATES: The comment period for the proposed rule published on July 26, 2016 (81 FR 49112) is extended. We will consider all comments that we receive on or before October 26, 2016.

ADDRESSES: You may submit comments by either of the following methods:

• Federal eRulemaking Portal: Go to http://www.regulations.gov/#!docketDetail;D=APHIS-2011-0009.

• Postal Mail/Commercial Delivery: Send your comment to Docket No. APHIS-2011-0009, Regulatory Analysis and Development, PPD, APHIS, Station 3A-03.8, 4700 River Road Unit 118, Riverdale, MD 20737-1238.

Supporting documents and any comments we receive on this docket may be viewed at http://www.regulations.gov/#!docketDetail;D=APHIS-2011-0009 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Kay Carter-Corker, Director, National Policy Staff, Animal Care, APHIS, 4700 River Road Unit 84, Riverdale, MD 20737; (301) 851-3751.

SUPPLEMENTARY INFORMATION:

Background

On July 26, 2016, we published in the Federal Register (81 FR 49112-49137, Docket No. APHIS-2011-0009) a proposal to revise the Horse Protection Act regulations in 9 CFR part 11 to improve our enforcement of the Act and regulations. The proposed rule provides that the Animal and Plant Health Inspection Service (APHIS) will train and license inspectors to inspect horses at horse shows, exhibitions, sales, and auctions for compliance with the Horse Protection Act. The proposed rule also proposes changes to the list of devices, equipment, substances, and practices that can cause soring or are otherwise prohibited under the Act and regulations, as well as other amendments pertaining to horse inspections and show management.

Comments on the proposed rule were required to be received on or before September 26, 2016. We are extending the comment period on Docket No. APHIS-2011-0009 for an additional 30 days. This action will allow interested persons more time to prepare and submit comments.

Clarification

As part of our proposed rule, we proposed to retitle § 11.2 as “Prohibited actions, practices, devices, and substances” and to prohibit all action devices, pads, and substances applied to a horse's limbs. Also prohibited is any practice involving a horse, and, as a result of such practice, such horse suffers, or can reasonably be expected to suffer, physical pain or distress, inflammation, or lameness when walking, trotting, or otherwise moving. These proposed changes were intended to successfully and significantly reduce the number of sored horses shown, exhibited, sold, and auctioned. In our proposed changes to § 11.2, we included provisions in proposed paragraph (a)(3) of that section stating that the use of any weight on horses up to 2 years old, except a keg or similar conventional horseshoe is prohibited, as is the use of a horseshoe on horses up to 2 years old that weighs more than 16 ounces. In keeping with the intent of our other proposed changes, we are considering changing proposed paragraph (a)(3) to read “The use of any weight on horses, except a keg or similar conventional horseshoe, is prohibited.” We will consider all comments we received on this provision throughout the comment period so that those who have already commented know we will continue to consider their views.

Authority: 15 U.S.C. 1823-1825 and 1828; 7 CFR 2.22, 2.80, and 371.7.

Done in Washington, DC, this 16th day of September 2016.
Kevin Shea,
Administrator, Animal and Plant Health Inspection Service.

[FR Doc. 2016-22855 Filed 9-21-16; 8:45 am]

BILLING CODE 3410-34-P